SMALL BUSINESS ADMINISTRATION

Data Collection Available for Public Comments and Recommendations

ACTION: Notice and request for comments.

SUMMARY: In accordance with the Paperwork Reduction Act of 1995, this notice announces the Small Business Administration's intention to request approval on a new and/or currently approved information collection.

DATES: Submit comments on or before November 28, 2005.

ADDRESSES: Send all comments regarding whether these information collections are necessary for the proper performance of the function of the agency, whether the burden estimates are accurate, and if there are ways to minimize the estimated burden and enhance the quality of the collections, to Carmen-Rosa Torres, Director, Office of Analysis, Planning, and Accountability, Small Business Administration, 409 3rd Street SW., Suite 6000, Washington, DC 20416.

FOR FURTHER INFORMATION CONTACT: Carmen-Rosa Torres, Director, 202-205-6112 Carmenrosa.torres@sba.gov Curtis B. Rich, Management Analyst, 202-205-7030 curtis.rich@sba.sba.

SUPPLEMENTARY INFORMATION: Title: “Lender Survey”.

Description of Respondents: This survey will be administered to representatives of lenders that originate small business loans.

Form No: N/A.

Annual Responses: 75.

Annual Burden: 37.5.

Title: “Assisted Business Survey”.

Description of Respondents: This survey will be administered to a random sample of businesses assisted under various SBA programs.

Form No: N/A.

Annual Responses: 3,000.

Annual Burden: 1,000.

Jacqueline White,
Chief, Administrative Information Branch.

[FR Doc. 05-19513 Filed 9-28-05; 8:45 am]

BILLING CODE 8025-01-P